DEPARTMENT OF HOMELAND SECURITY

Office of the Secretary

[Docket No. DHS-2008-0088]

Privacy Act of 1974; Federal Emergency Management Agency-008 Disaster Recovery Assistance Files System of Records

AGENCY: Privacy Office; DHS.

ACTION: Notice of Privacy Act system of records.

SUMMARY: In accordance with the Privacy Act of 1974, the Department of Homeland Security proposes to update and reissue a system of records titled, Department of Homeland Security Federal Emergency Management Agency-REG 2 Disaster Recovery Assistance Files [July 6, 2006], into a Department of Homeland Security system of records notice titled, DHS/Federal Emergency Management Agency-008 Disaster Recovery Assistance Files. This system enables the Department of Homeland Security to administer the DHS/Federal Emergency Management Agency Disaster Recovery Assistance system of records. To assist in improving disaster recovery assistance, the Federal Emergency Management Agency, in partnership with other Federal agencies, hosts a single application and resource center (http://www.disasterassistance.gov) that allows the public to apply for disaster assistance, benefits, and other services within the Federal Emergency Management Agency and other Federal agencies.

Updated information contained in the Disaster Recovery Assistance Files, includes, but is not limited to, the disaster applicant's change of address associated with the applicant's social security number that will be submitted to the Social Security Administration.

Sharing the date of a disaster applicant's change of address along with the social security number will allow applicants to update the Social Security Administration with information to help prevent delay in receiving benefits and correspondence from the Social Security Administration.

Categories of individuals, categories of records, and the routine uses of this system of records notice have been updated to better reflect the Department of Homeland Security Federal Emergency Management Agency's Disaster Recovery Assistance record systems. This system will be included in the Department's inventory of record systems. The changes include re-numbering the routine uses to comport with all of DHS system of record notices.

We have expanded the preamble language in section (h), which was previously numbered section (a), to include sharing for the purposes of addressing unmet needs as well as preventing a duplication of benefits. We expanded the language in (h)(1) (previously (a)(1)) to include all types of disaster related assistance that a Federal or State agency may provide. There was some ambiguity as to whether some services that states provided met the standard set out in the previous system of records notice. We have added an additional routine use in section (h) to address immediate health needs of applicants.

We have added routine use section (q) to better assist applicants by updating all of their information that is filed with government agencies. FEMA learned that in the aftermath of a disaster, applicants who were housed in FEMA-provided dwellings had trouble receiving other services and benefits from other government agencies due to the fact that those other agencies did not have updated contact information regarding the applicants. This routine use will address that problem.

In response to Executive Order 13411 we have added routine use (r) to allow for computer matching agreements with other agencies in order to better deal with eligibility concerns. Often eligibility for other Federal agency programs is contingent upon whether the applicant received assistance from DHS/FEMA and vice versa. The sharing via computer matching agreements will expedite and improve upon this process.

DATES: Written comments must be submitted on or before October 26, 2009. This new system will be effective October 26, 2009.

ADDRESSES: You may submit comments, identified by Docket Number DHS-2008-0088 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions please contact: Delia Davis (202-646-3808), Privacy Officer, Federal Emergency Management Agency, Department of Homeland Security, Washington, DC 20472. For privacy issues please contact: Mary Ellen Callahan (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002) and in accordance with the Privacy Act of 1974, the Department of Homeland Security (DHS)/Federal Emergency Management Agency (FEMA) is updating and reissuing this system of records for the collection and maintenance of records pertaining to the Federal Emergency Management Agency Disaster Recovery Assistance Files.

In compliance with Executive Order 13411, “Improving Assistance for Disaster Victims,” dated August 29, 2006, FEMA has developed and improved several programs to improve assistance provided to victims of Presidentially-declared disasters.

The Department of Homeland Security is updating the DHS/FEMA-REG 2 Disaster Recovery Assistance Files [July 6, 2006, 71 FR 38408], and reissuing it under a new name, DHS/FEMA-008 Disaster Recovery Assistance Files. This system will enable DHS to administer the Federal Emergency Management Agency Disaster Recovery Assistance system of records. To assist in improving disaster recovery assistance, FEMA, in partnership with other Federal agencies, hosts a single application and resource center (http://www.disasterassistance.gov) that allows the public to apply for disaster assistance, benefits, and other services within FEMA and other Federal agencies.

Additional routine uses have been added in order to improve efficiency of administering disaster relief efforts and benefits. FEMA has added routine use (q) to better assist applicants in updating all of their information that is filed with government agencies. FEMA learned that in the aftermath of a disaster, applicants who were housed in FEMA-provided dwellings had trouble receiving other services and benefits from other government agencies due to the fact that those other agencies did not have updated contact information regarding the applicants. Initially, the following agencies will be using Disaster Assistance Center: Social Security Administration (SSA), Small Business Administration (SBA), Department of Education (ED), and Department of Labor (DOL). In subsequent phases, the following agencies may be using Disaster Assistance Center: Department of Housing and Urban Development (HUD), Department of Agriculture (USDA), Department of Health & Human Services (HHS), Department of Justice (USDOJ), Department of the Interior (DOI), Department of Treasury (Treasury), Department of Veterans' Affairs (VA), and Office of Personnel Management (OPM). For example, sharing the date of a disaster applicant's change of address together with their social security number will allow applicants to update Social Security Administration with information to help prevent delay in receiving benefits and correspondence from the Social Security Administration.

FEMA has added routine use (r) pursuant to the aforementioned Executive Order 13411. This allows for computer matching agreements with other agencies in order to better deal with eligibility concerns. Eligibility for other Federal agency programs is contingent on whether the applicant received assistance from DHS/FEMA and vice versa. The sharing via computer matching agreements will expedite and improve upon this process.

Specifically, routine use section (h) (previously section a.) more clearly describes which entities may receive applicant information for the purposes of preventing duplication of benefits and addressing unmet needs caused by the disaster. This section also adds an additional routine use to entities that are able to assist applicants who require immediate health related needs. FEMA has added routine use (e) to comport with all DHS system of records notices. Pursuant to the aforementioned Executive Order 13411, FEMA has added routine uses (q) and (r). All disclosures made pursuant to the routine uses described below (unless stated otherwise) require a written request from the entity seeking the information prior to disclosure. All requests for applicant information first require legal review and concurrence before disclosing applicant information under this system.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act Regulations, 6 CFR part 5.

The Privacy Act requires each agency to publish in the Federal Register a description denoting the type and character of each system of records that the agency maintains, and the routine uses that are contained in each system in order to make agency record keeping practices transparent, to notify individuals regarding the uses of their records, and to assist individuals to more easily find such files within the agency. Below is the description of the DHS/FEMA Disaster Recovery Assistance Files System of Records.

In accordance with 5 U.S.C. 552a(r), DHS has provided a report of this revised system of records to the Office of Management and Budget (OMB) and to Congress.

System of Records:

DHS/FEMA-008.

System name:

Federal Emergency Management Agency Disaster Recovery Assistance Files.

Security classification:

Unclassified.

System location:

National Processing Service Centers (NPSC) located at FEMA MD-NPSC, 6511 America Boulevard, Hyattsville, MD 20782; FEMA VA-NPSC, 430 Market St. Winchester, VA 22603; and FEMA TX-NPSC, 3900 Karina Lane, Denton, TX 76208.

Categories of individuals covered by the system:

Eligible United States citizens and lawful permanent residents applying for disaster recovery assistance following a Presidentially-declared major disaster or emergency.

Categories of records in the system:

Categories of records in this system include:

(a) Registration Records (Form 90-69 and 90-69b, Disaster Assistance Registration/Application)

• Individual's full name;

• Social security number, alien number, co-application social security number;

• Date of birth;

• Phone numbers;

• E-mail addresses;

• Addresses;

• Language(s) spoken;

• Date of disaster and/or property loss including cause of damage and estimates of repair;

• Type of disaster location;

• Name for each disaster;

• Income information;

• Acceptable forms of identification (e.g., drivers license, state/federal issued photo identification);

• Emergency needs of the individual (e.g. food, clothing, shelter etc.);

• Other needs (e.g., medical, dental, moving, funeral etc.)

• Type of residence;

• Insurance coverage information including names, addresses, phone numbers, e-mail addresses;

• Household size and composition including number and type of individual's dependents;

• Bank name and account information including electronic funds transfer information;

(b) Inspection Reports (Form 90-56, Inspection Report)

• Inspection reports containing individuals' identifying information and results of surveys of damaged real and personal property and goods, which may include individuals' homes and personal items;

(c) Temporary Housing Assistance Eligibility Determinations (Forms 90-11, through 90-13, 90-16, 90-22, 90-24 through 90-28, 90-31, 90-33, 90-41, 90-48, 90-57, 90-68 through 90-70, 90-71, 90-75 through 90-78, 90-82, 90-86, 90-87, 90-94 through 90-97, 90-99, and 90-101.

• Correspondence and documentation related to the approval and disapproval of temporary housing assistance including: general correspondence, complaints, appeals and resolutions, requests for disbursement of payments, inquiries from tenants and landlords, general administrative and fiscal information, payment schedules and forms, termination notices, information shared with the temporary housing program staff from other agencies to prevent the duplication of benefits, leases, contracts, specifications for repair of disaster damaged residences, reasons for eviction or denial of aid, sales information after tenant purchase of housing units, and the status of disposition of applications for housing;

(d) Eligibility Decisions for Disaster Aid from other Federal and State Agencies (forms 76-27 through 70-28, 76-30, 76-32, 76-34 through 76-35 and 76-38)

• Notations of decisions for disaster aid from other Federal and State agencies as they relate to determinations of individuals' eligibility for disaster assistance programs.

• Other files independently kept by the State, which contain records of persons who request disaster aid, specifically for the “Other Needs” assistance provision of the Individuals and Households Program (IHP), and its predecessor program, the Individuals and Family Grant (IFG), administrative files and reports required by FEMA. As to individuals, the State keeps the same type of information as described above under registration, inspection, and temporary housing assistance records. As to administrative files and reporting requirements.

Authority for maintenance of the system:

Robert T. Stafford Disaster Relief and Emergency Assistance Act as amended (the Stafford Act), 42 U.S.C. 5121-5206 and Reorganization Plan No. 3 of 1978, 5 U.S.C. 552a(b) of the Privacy Act, Executive Order 13411, the Homeland Security Act of 2002, Public Law 107-296, Section 1512, 116 Stat. 2310 (November 25, 2002), 5 U.S.C. 552a(b) of the Privacy Act, 44 U.S.C. sections 2904 and 2906, Debt Collection Improvement Act of 1996, 31 U.S.C. 3325(d) and 7701(c)(1), Fair Credit Reporting Act, 15 U.S.C. 1681a(f), as amended; Federal Claims Collection Act of 1966, 31 U.S.C. 3701(a)(3), as amended; 44 CFR 206.2(a)(27).

Purpose(s):

To register applicants needing disaster assistance, to inspect damaged homes, to verify information provided by each applicant, to determine eligibility regarding an applicant's request for assistance, and to identify and implement measures to reduce future disaster damage, prevent duplication of federal government efforts and benefits, identify possible fraudulent activity once there has been a Presidentially-declared major disaster or emergency.

Routine uses of records maintained in the system, including categories of users and the purposes of such uses:

In addition to those disclosures generally permitted under 5 U.S.C. 552a(b) of the Privacy Act, DHS/FEMA may disclose all or a portion of the records of information contained in this system as a routine use pursuant to 5 U.S.C. 552a(b)(3) as follows:

A. To the Department of Justice (DOJ) (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation.

B. To a congressional office from the record of an individual in response to an inquiry from that congressional office made at the request and with the consent of the individual to whom the record pertains.

C. To the National Archives and Records Administration or other Federal Government agencies pursuant to records management inspections being conducted under the authority of 44 U.S.C. sections 2904 and 2906.

D. To a Federal agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. Where a record, either on its face or in conjunction with other information, indicates a violation or potential violation of law—criminal, civil, or regulatory—the relevant records may be referred to an appropriate Federal, State, tribal, local, international, or foreign law enforcement agency or other appropriate authority charged with investigating or prosecuting such a violation or enforcing or implementing a law, rule, regulation, or order, so long as such disclosure is proper and consistent with the official duties of the person receiving the information.

H. To certain agencies where FEMA may disclose applicant information necessary to prevent a duplication of efforts or a duplication of benefits in determining eligibility for disaster assistance, or to certain entities that will provide unmet needs to eligible, ineligible or partially eligible FEMA applicants. Only the least amount of necessary information shall be released to enable the recipient agency to determine eligibility for that agency's particular assistance program(s). The receiving agency is not permitted to alter or to further disclose the disclosed records to other disaster organizations. FEMA may make such disclosures under the following circumstances:

1. To another Federal agency or State government agency charged by statute or regulation in administering disaster relief programs. This includes programs that make available any additional Federal and State disaster assistance to individuals and households and authorities that give preference of priority to disaster victims to the extent the information is relevant and necessary and is compatible as to purpose.

2. When an applicant seeks assistance from a local government agency or a voluntary organization (as defined at 44 CFR 206.2(a)(27), as amended or superseded) charged under legislation or charter with administering disaster relief programs, and FEMA receives a written request from that local government or voluntary agency that includes the applicant's name, date of birth, FEMA registration/application number, and damaged dwelling address. The written request must explain the type of tangible assistance being offered and the type of verification required before the assistance can be provided.

3. To voluntary organizations (as defined at 44 CFR 206.2(a)(27), as amended or superseded) that have an established disaster assistance program to address the disaster-related unmet needs of disaster victims, are actively involved in the recovery efforts of the disaster, and either have a national membership in good standing with the National Voluntary Organizations Active in Disaster (NVOAD), or are participating in the FEMA or State recognized disaster's Long-Term Recovery Committee. When a voluntary agency satisfies all of the criteria listed in this sub-paragraph, FEMA may release lists of individuals' names, contact information, and their FEMA inspected loss amount to the voluntary agency for the sole purpose of providing additional disaster assistance. FEMA shall release this information only from the time that disaster period is first open until 90 days after the disaster period is closed.

4. FEMA may immediately disclose, on a case-by-case basis, applicant information to an entity qualifying under routine use (H)(3) above or to an entity approved by the FEMA Disability Coordinator, if the applicant in question has a special need for durable medical equipment or device, and the qualifying entity is able to provide the assistance to the applicant in question. Specifically, FEMA may release the applicants name and telephone number. A written request is not necessary in this situation, however FEMA shall provide a written letter along with the information to receiving entity, and in turn the receiving entity shall send FEMA an acknowledgement letter that it has received the information and has contacted the applicant. In addition, the entity will confirm that it has taken the steps to protect the information provided. Only the FEMA Disability Coordinator or designee is authorized to approve a release under this routine use.

I. To relevant agencies, organizations, and institutions when an individual's eligibility, in whole or in part, for a disaster assistance program depends upon benefits already received or available from another source for the same purpose as necessary to determine what benefits are available from another source and to prevent the duplication of disaster assistance benefits (as described in section 312 of the Stafford Act).

J. To Federal, State, or local agencies in response to a written request, FEMA may disclose information charged with the implementation of hazard mitigation measures and the enforcement of hazard-specific provisions of building codes, standards, and ordinances. FEMA may only disclose information for the following purposes:

1. For hazard mitigation planning purposes to assist States and local communities in identifying high-risk areas and preparing mitigation plans that target those areas for hazard mitigation projects implemented under Federal, State or local hazard mitigation programs.

2. For enforcement purposes, to enable State and local communities to ensure that owners repair or rebuild structures in conformance with applicable hazard-specific building codes, standards, and ordinances.

K. To the Department of the Treasury, pursuant to the Debt Collection Improvement Act of 1996, 31 U.S.C. 3325(d) and 7701(c)(1), on the release of a social security number of the person doing business with FEMA, including an applicant for a grant. An applicant's social security number will be released in connection with a request for payment to the Department of the Treasury to provide a disaster assistance payment to an applicant under the Individual Assistance program.

L. To a State in connection with billing that State for the applicable non-Federal cost share under the Individuals and Households Program. Information shall only include list of applicants' names, contact information, and amounts of assistance received.

M. To local emergency managers, when an applicant is occupying a FEMA Temporary Housing unit, for the purposes of preparing, administering, coordinating and/or monitoring emergency response, public safety, and evacuation plans. FEMA shall only release the address and location of the housing unit.

N. To the Department of the Treasury, Justice, the United States Attorney's Office, or a consumer reporting agency for further collection action on any delinquent debt when circumstances warrant.

O. To Federal or State law enforcement authority, or agency, or other entity authorized to investigate and/or coordinate locating missing children and/or reuniting families.

P. To State and local government election authorities to oversee the voting process within their respective State/county/parish, for the limited purpose of ensuring voting rights of individuals who have applied to FEMA for Disaster Assistance, limited to their own respective State's/county's/parish's citizens who are displaced by a Presidentially-declared major disaster or emergency out of their State/county/parish voting jurisdiction.

Q. To certain Federal, State, local, and tribal agencies where FEMA may disclose an applicant's disaster related information to update the applicant's current records (i.e. change of address, effective date of change of address, etc.) within that agency to reduce additional efforts following a Presidentially-declared disaster (i.e. Social Security Administration, a state Department of Motor Vehicles, or state health agency that needs updated contact information).

R. To other Federal agencies or non-Federal entities under approved computer matching efforts, if use of such information is compatible with the purpose for which DHS collected the information. Sharing is limited to only those data elements considered relevant and necessary to determine eligibility under particular benefit programs administered by those agencies or entities or by DHS or any component thereof to improve program integrity, and to collect debts and other monies owed under those programs.

S. To the news media and the public, with the approval of the Chief Privacy Officer in consultation with Counsel, when there exists a legitimate public interest in the disclosure of the information or when disclosure is necessary to preserve confidence in the integrity of the Department or is necessary to demonstrate the accountability of the Department's officers, employees, or individuals covered by the system, except to the extent it is determined that release of the specific information in the context of a particular case would constitute an unwarranted invasion of personal privacy.

Disclosure to consumer reporting agencies:

Disclosure under 5 U.S.C. 552a(b)(12). DHS/FEMA may make disclosures from this system to “consumer reporting agencies” as defined in the Fair Credit Reporting Act 15 U.S.C. 1681a(f), as amended; or the Federal Claims Collection Act of 1966 31 U.S.C. 3701(a)(3), as amended.

Policies and practices for storing, retrieving, accessing, retaining, and disposing of records in the system:

Storage:

Records in this system are stored in an interactive database, computer discs, and paper records in file folders.

Retrievability:

Records may be retrieved by an individual's name, address, social security number, and case file number.

Safeguards:

Only authorized FEMA employees and contractors have access to this information. Hardware and software computer security measures are used to control access to the data. Access to the data is based upon an individual's position in FEMA and/or their designated duties. Individuals are assigned specific “rights” or specific access (e.g., read only, modify, delete, etc.). The access granted is based upon an individual's position responsibilities for “official use” only. FEMA employees are allowed access to the data as a function of their specific job assignments within their respective organizations. Each FEMA employee's access to the data is restricted to that needed to carry out their duties.

No individual applying for disaster assistance will have access to the entire database via the Internet. Applicants will have limited access to only their own information that they submitted via the Internet, and to the status of their own information regarding the processing of their own application (e.g. the status of required documentation, inspection status, or SBA status). Applicants are provided a Logon id, password, and Personal Identification Number (PIN) that connect only to the applicant's data. The password and PIN ensures that the login id belongs to the applicant. Computer security software ensures that the login id is mapped only to the applicant's data. Applicants will have access to only their own application information after FEMA assigns them a properly authenticated user id, password, and PIN. Applicants will be registered and authenticated in accordance with National Institute of Standards and Technology Level 2 Assurance guidelines.

Retention and disposal:

Records pertaining to individual assistance EXCEPT those relating to temporary housing and Individuals and Households Program programs will retire to inactive storage when two years old and destroyed when six years three months old in accordance with FEMA Records Schedule No. N1-311-86-1, item 4C10a. Records pertaining to temporary housing will be destroyed three years after close of the operation in accordance with FRS No. N1-311-86-1, item 4C10b. Closeout occurs when the disaster contract is terminated. Records pertaining to the IHP program will retire to the Federal Records Center (FRC) one year after closeout and destroyed three years after closeout.

System Manager and address:

Division Director, Individual Assistance Division, Federal Emergency Management Agency, 500 C Street SW., Washington, DC 20472.

Notification procedure:

Individuals seeking notification of and access to any record contained in this system of records, or seeking to contest its content, may submit a request in writing to the Headquarters or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

FEMA receives information from individuals who apply for disaster recovery assistance through three different media: (1) Electronically via the Internet at http://www.disasterassistance.gov; (2) by calling FEMA's toll-free number 1-800-621-3362, and (3) through submission of a paper copy of FEMA Form 90-69. In addition information in this records system may come from credit rating bureaus, financial institutions, insurance companies, State, local and voluntary agencies providing disaster relief, and commercial databases (for verification purposes).

Exemptions claimed for the system:

None.

Dated: September 14, 2009.
Mary Ellen Callahan,
Chief Privacy Officer, Department of Homeland Security.

[FR Doc. E9-23015 Filed 9-23-09; 8:45 am]

BILLING CODE 9110-17-P